DEPARTMENT OF THE INTERIOR

Fish and Wildlife Service

[FWS-R1-R-2008-N0101; 1265000010137-S3]

Sheldon National Wildlife Refuge, Lakeview, OR

AGENCY: Fish and Wildlife Service, Interior.

ACTION: Notice of intent to prepare a comprehensive conservation plan and environmental impact statement; announcement of four public open house meetings; and request for comments.

SUMMARY: We, the U.S. Fish and Wildlife Service (Service), intend to prepare a comprehensive conservation plan (CCP) for the Sheldon National Wildlife Refuge (Refuge). An environmental impact statement (EIS) evaluating effects of various CCP alternatives, will also be prepared. The Refuge is located in Washoe and Humboldt County, Nevada, and Lake County, Oregon. We provide this notice in compliance with our CCP policy to: advise other Federal and State agencies, Tribes, and the public of our intentions, and obtain suggestions and information on the scope of issues to consider in the planning process. We are also announcing public open house meetings and requesting public comments.

DATES: Please provide your written comments by June 30th, 2008. We will hold four open house public meetings to begin the CCP planning process; see Public Meetings under SUPPLEMENTARY INFORMATION for dates, times, and locations.

ADDRESSES: Additional information concerning CCP development is available on the following Internet site: http://www.fws.gov/pacific/planning. See SUPPLEMENTARY INFORMATION for the addresses of the four public open house meeting locations. Send your comments or requests for more information by any of the following methods.

E-mail: SheldonCCP@fws.gov.

U.S. Mail: Paul Steblein, Project Leader, Sheldon-Hart Mountain National Wildlife Refuge Complex, P.O. Box 111, Lakeview, OR 97630.

FOR FURTHER INFORMATION CONTACT: Paul Steblein, Project Leader, via E-mail: SheldonCCP@fws.gov or at phone number: (541) 947-3315.

SUPPLEMENTARY INFORMATION:

Introduction

With this notice, we initiate our process for developing a CCP for Sheldon National Wildlife Refuge in Washoe and Humboldt Counties, Nevada, and Lake County, Oregon. This notice complies with our CCP policy and the National Environmental Policy Act of 1969, as amended (NEPA) to (1) Advise other Federal and State agencies, Tribes, and the public of our intention to conduct detailed planning on this refuge, and (2) obtain suggestions and information on the scope of issues to consider in the environmental document and during development of the CCP.

Background

The CCP Process

The National Wildlife Refuge System Improvement Act of 1997 (16 U.S.C. 668dd-668ee) (Improvement Act), which amended the National Wildlife Refuge System Administration Act of 1966, requires us to develop a CCP for each national wildlife refuge. The purpose for developing a CCP is to provide refuge managers with a 15-year plan for achieving refuge purposes and contributing toward the mission of the National Wildlife Refuge System, consistent with sound principles of fish and wildlife management, conservation, legal mandates, and our policies. We will review and update the CCP at least every 15 years in accordance with the Improvement Act.

Each unit of the National Wildlife Refuge System was established for specific purposes. We use these purposes as the foundation for developing and prioritizing the management goals and objectives for each refuge within the National Wildlife Refuge System mission, and to determine how the public can use each refuge. The planning process is a way for us and the public to identify and evaluate management goals and objectives for wildlife habitat conservation and wildlife-dependent recreation opportunities compatible with each refuge's establishing purposes and the mission of the National Wildlife Refuge System.

Our CCP process provides participation opportunities for Tribal, state, and local governments; agencies; organizations; and the public. At this time we encourage input in the form of issues, concerns, ideas, and suggestions for the future management of Sheldon National Wildlife Refuge.

We will conduct the environmental review of the Sheldon CCP/EIS in accordance with the requirements of NEPA, NEPA regulations (40 CFR parts 1500-1508); other appropriate Federal laws and regulations; and our policies and procedures for compliance with those laws and regulations.

Sheldon National Wildlife Refuge

The Refuge's approved boundary encompasses approximately 572,876 acres of high desert sagebrush-steppe ecosystem in Washoe and Humboldt Counties, Nevada and Lake County, Oregon. The Refuge was originally established in 1931, and the Refuge purposes are:

• “* * * as a refuge and breeding ground for wild animals and birds * * *” (Executive Order 5540 dated January 26, 1931 signed by Herbert Hoover);

• “* * * set apart for the conservation and development of natural wildlife resources and for the protection and improvement of public grazing lands and natural forage resources * * * ” and “* * * the natural resources therein shall be first utilized for the purpose of sustaining in a healthy condition a maximum of three thousand five hundred (3,500) antelope, the primary species, and such non-predatory secondary species in such numbers as may be necessary to maintain a balanced wildlife population * * *.” (Executive Order 7522 dated December 21, 1936);

• “* * * to conserve (1) fish or wildlife which are listed as endangered species or threatened species * * * or (B) plants * * *” 16 U.S.C. 1534 (Endangered Species Act of 1973); and

• “* * * for use as an inviolate sanctuary, or for any other management purpose, for migratory birds.” 16 U.S.C. 715d (Migratory Bird Conservation Act of 1929).

The high desert is characterized by wide-open spaces and a variety of landforms. The two most common landforms include narrow canyons that empty into rolling valleys with no drainage outlets to the ocean, and broad flat tables that end abruptly in vertical cliffs. The elevations of these landforms range from a high of 7,294 feet on Catnip Mountain, to a low of approximately 4,200 feet on the northeastern boundary. The area generally decreases in altitude from west to east.

The extent of the sagebrush-steppe ecosystem has substantially declined across the landscape primarily as a result of habitat conversion, catastrophic wildfire, and introduced exotic species. The Refuge currently represents one of the last reasonably intact examples of a sagebrush-steppe ecosystem in the Great Basin. It provides a variety of critical habitats for a host of species endemic to sagebrush-steppe, including pronghorn antelope, mule deer, greater sage-grouse, pygmy rabbit, migratory birds, desert fishes, and a range of rare plants and invertebrates.

Preliminary Issues, Concerns, and Opportunities

We have identified preliminary issues, concerns, and opportunities that we may address in the CCP. Additional issues may be identified during public scoping.

Habitat Management and Restoration: What actions shall the Service take to sustain and restore priority species and habitats over the next 15 years?

Public Use and Access: What type and level of recreational opportunities should be provided? How will public use and associated facilities be managed, taking into consideration wildlife disturbance, restrictions, liability, compatibility, and future needs?

Cultural Resources: How will the Refuge protect and manage its significant archaeological and historic sites? What level and type of cultural resources education should be provided to the public?

Feral Horses and Burros: How can feral horses and burros best be managed for the long term consistent with refuge purposes? Should interim management guidelines adopted under the recent Feral Horse and Burro Management EA continue in the future?

Public Open House Meetings

Four public open house meetings will be held to provide opportunities for the public to learn more about the Refuge and its programs from the CCP planning team and to obtain public comments. Meeting details follow.

Date | Time | Location
May 14, 2008 | 6 p.m. to 9 p.m. | Daly Middle School Gym, 220 South H Street, Lakeview, Oregon.
May 22, 2008 | 6 p.m. to 9 p.m. | West Hall, Convention and Visitors Authority, 50 W. Winnemucca Blvd., Winnemucca, NV.
June 4, 2008 | 6 p.m. to 9 p.m. | Christian Life Assembly, 225 West B Street, Alturas, CA.
June 11, 2008 | 6 p.m. to 9 p.m. | Pantera/Tartuca Rooms, Siena Hotel and Casino, One South Lake Street, Reno, NV.

Public Availability of Comments

Before including your address, phone number, e-mail address, or other personal identifying information in your comment, you should be aware that your entire comment—including your personal identifying information—may be made publicly available at any time. While you can ask us to withhold your personal identifying information from public review, we cannot guarantee that we will be able to do so.

Dated: April 14, 2008.
David J. Wesley,
Acting Regional Director, Region 1, Portland, Oregon.

[FR Doc. E8-10480 Filed 5-9-08; 8:45 am]

BILLING CODE 4310-55-P